FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 11, 2016.

A. Federal Reserve Bank of Chicago (Colette A. Fried, Assistant Vice President) 230 South LaSalle Street, Chicago, Illinois 60690-1414:

1. Betty J. Miller Trust #1, Lake in the Hills, Illinois and Wayne M. Miller as Successor Trustee, the Wayne M. Miller Trust #1, Lake in the Hills, Illinois and Wayne M. Miller as Trustee, and Vernon L. Miller, Princeville, Illinois, to retain shares of Waterman Bancshares, Inc., Waterman, Illinois, and thereby indirectly retain shares of Waterman State Bank, both in Waterman, Illinois.

Board of Governors of the Federal Reserve System, July 22, 2016.
Margaret McCloskey Shanks,
Deputy Secretary of the Board.

[FR Doc. 2016-17770 Filed 7-26-16; 8:45 am]

BILLING CODE 6210-01-P